DEPARTMENT OF COMMERCE

International Trade Administration

[A-552-802, A-570-893]

Notice of Initiation of Administrative Reviews and Requests for Revocation in Part of the Antidumping Duty Orders on Certain Frozen Warmwater Shrimp From the Socialist Republic of Vietnam and the People's Republic of China

AGENCY: Import Administration, International Trade Administration, Department of Commerce.

SUMMARY: The Department of Commerce (the “Department”) received timely requests to conduct administrative reviews of the antidumping duty orders on certain frozen warmwater shrimp (“shrimp”) from the Socialist Republic of Vietnam (“Vietnam”) and the People's Republic of China (“PRC”). The Department also received a timely request to revoke, in part, the antidumping duty order on shrimp from the PRC for one producer/exporter.¹ In addition, we received timely requests to revoke, in part, the antidumping duty order on shrimp from Vietnam for multiple producer/exporters.² Subsequently, several Vietnamese producers/exporters withdrew their request for revocation of the antidumping duty order.³ The anniversary month of these orders is February. In accordance with the Department's regulations, we are initiating these administrative reviews.

¹ Zhanjiang Regal Integrated Marine Resources Co., Ltd.

² These companies are: Minh Hai Joint-Stock Seafoods Processing Company (“Seaprodex Minh Hai”), Viet Hai Seafood Co., Ltd. a/k/a Vietnam Fish-One Co., Ltd., Sao Ta Foods Joint Stock Company (FIMEX VN), Grobest & I-Mei Industrial (Vietnam) Co., Ltd., Ca Mau Seafood Joint Stock Company (“Seaprimexco”), Cadovimex Seafood Import-Export and Processing Joint-Stock Company (“CADOVIMEX”), Cafatex Fishery Joint Stock Corporation (“Cafatex Corp”), Camau Frozen Seafood Processing Import Export Corporation, or Camau Seafood Factory No. 4 (“CAMIMEX”) and/or Camau Frozen Seafood Processing Import Export Corporation (“CAMIMEX”), Can Tho Agricultural and Animal Products Import Export Company (“Cataco”), Coastal Fisheries Development Corporation (“COFIDEC”), Investment Commerce Fisheries Corporation (“Incomfish”), Minh Hai Export Frozen Seafood Processing Joint-Stock Company (“Minh Hai Jostoco”), Minh Phu Seafood Corporation (and its affiliates Minh Qui Seafood Co., and Minh Phat Seafood Co., Ltd.), Ngoc Sinh Private Enterprise (“Ngoc Sinh Seafoods”), Nha Trang Seaproduct Company (“Nha Trang Seafoods”), Soc Trang Seafood Joint Stock Company (“STAPIMEX”), UTXI Aquatic Products Processing Corporation (“UTXICO”) and Vinh Loi Import Export Company (“VIMEX”).

³ These companies are: Cafatex Corp., Seaprimexco, Cataco, COFIDEC, Incomfish, Minh Hai Jostoco, Ngoc Sinh Seafoods, STAPIMEX, Sao Ta Foods Joint Stock Company (FIMEX VN), UTXICO and VIMEX. Therefore, with the exception of these 11 companies, the remaining requests for revocation of the antidumping duty order are still active.

DATES: Effective Date: March 26, 2009.

FOR FURTHER INFORMATION CONTACT: Catherine Bertrand (Vietnam) or Scot Fullerton (PRC), AD/CVD Operations, Office 9, Import Administration, International Trade Administration, U.S. Department of Commerce, 14th Street and Constitution Avenue, NW., Washington, DC 20230, telephone: (202) 482-3207 or (202) 482-1386, respectively.

SUPPLEMENTARY INFORMATION:

Background

The Department received timely requests, in accordance with 19 CFR 351.213(b), during the anniversary month of February, for administrative reviews of the antidumping duty orders on shrimp from Vietnam and the PRC covering multiple entities. On March 13, 2009, one of the domestic interested parties provided a clarification that its request for review covered Hilltop International, the successor-in-interest to Yelin Enterprise Co., Ltd. The Department is now initiating these administrative reviews of the orders covering those entities.

Notice of No Sales

Under 19 CFR 351.213(d)(3), the Department may rescind a review where there are no exports, sales, or entries of subject merchandise during the respective period of review (“POR”) listed below. If a producer or exporter named in this notice of initiation had no exports, sales or entries during the POR, it must notify the Department within 30 days of publication of this notice in the Federal Register. The Department will consider rescinding the review only if the producer or exporter, as appropriate, submits a properly filed and timely statement certifying that it had no exports, sales or entries of subject merchandise during the POR. All submissions must be made in accordance with 19 CFR 351.303 and are subject to verification in accordance with section 782(i) of the Tariff Act of 1930, as amended (the “Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice, and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://ia.ita.doc.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ⁴ should timely file a Separate Rate Application to demonstrate eligibility for a separate rate in this proceeding. In addition, companies that received a separate rate in a completed segment of the proceeding that have subsequently made changes, including, but not limited to, changes to corporate structure, acquisitions of new companies or facilities, or changes to their official company name,⁵ should timely file a Separate Rate Application to demonstrate eligibility for a separate rate in this proceeding. The Separate Rate Status Application will be available on the Department's Web site at http://ia.ita.doc.gov/nme.nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

⁴ Such entities include entities that have not participated in the proceeding, entities that were preliminarily granted a separate rate in any currently incomplete segment of the proceeding (e.g., an ongoing administrative review, new shipper review, etc.) and entities that lost their separate rate in the most recently completed segment of the proceeding in which they participated.

⁵ Only changes to the official company name, rather than trade names, need to be addressed via a Separate Rate Application. Information regarding new trade names may be submitted via a Separate Rate Certification.

Initiation of Review

In accordance with 19 CFR 351.221(c)(1)(i), we are initiating administrative reviews of the antidumping duty orders on shrimp from Vietnam and the PRC. We intend to issue the final results of these reviews on the companies listed below no later than March 9, 2010.

| Period to be reviewed
Antidumping Duty Proceeding
Socialist Republic of Vietnam ⁶ | 02/01/2008-01/31/2009
Frozen Warmwater Shrimp A-552-802
• AAAS Logistics
• Agrimex
• Amanda Foods (Vietnam) Limited
• Amerasian Shipping Logistics Corp.
• American Container Line
• An Giang Fisheries Import and Export Joint Stock Company (Agifish)
• An Xuyen
• Angiang Agricultural Technology Service
• Aquatic Products Trading Company
• Bac Lieu Company Limited
• Bac Lieu Fisheries Company Limited
• Bac Lieu Fisheries Company Limited and/or Bac Lieu Fisheries Company Limited (“Bac Lieu”)
• Bac Lieu Fisheries Joint Stock Company (“Bac Lieu”) aka Bac Lieu Company Limited
• Bentre Aquaproduct Imports & Exports
• Bentre Forestry and Aquaproduct Import-Export Company (“FAQUIMEX”)
• Bentre Frozen Aquaproduct Exports
• Bentre Seafood Joint Stock and/or Beseaco
• Beseaco
• Binh An Seafood
• Binh Dinh Fishery Joint Stock
• C.P. Vietnam Livestock Co., Ltd.
• C.P. Vietnam Livestock Co., Ltd.
• Ca Mau Seafood Joint Stock Company (“SEAPRIMEXCO”)
• Ca Mau Seaproducts Exploitation and Service Corporation (“SES”)
• Cadovimex Seafood Import-Export and Processing Joint-Stock Company (“CADOVIMEX”)
• Cadovimex Seafood Import-Export and Processing Joint-Stock Company (“CADOVIMEX”) aka Cai Doi Vam Seafood Import-Export Company (“Cadovimex”)
• Cadovimex Seafood Import-Export and Processing Joint-Stock Company (“CADOVIMEX”) and/or Cadovimex Seafood Import-Export and Processing Joint-Stock Company (“Cadovimex-Vietnam”)
• Cafatex Fishery Joint Stock Corporation (“Cafatex Corp.”)
• Cafatex Fishery Joint Stock Corporation (“Cafatex Corp”) and/or Cafatex Fishery Joint Stock Corporation (“CAFATEX CORP.”)
• Cai Doi Vam Seafood Import-Export Company (Cadovimex)
• Cam Ranh Seafoods Processing Enterprise Company (“Camranh Seafoods”)
• Cam Ranh Seafoods Processing Enterprise Company (“Camranh Seafoods”) and/or Cam Ranh Seafoods Processing Enterprise PTE and/or Camramh Seafoods
• Camau Frozen Seafood Processing Import Export Corporation (“Camimex”)
• Camau Frozen Seafood Processing Import Export Corporation or Camau Seafood Factory No. 4 (“CAMIMEX”) and/or Camau Frozen Seafood Processing Import Export Corporation (“CAMIMEX”),
• Camau Seafood Fty
• Can Tho Agricultural and Animal Products Import Export Company (“CATACO”)
• Can Tho Agricultural and Animal Products Import Export Company (“CATACO”) and/or Can Tho Agricultural and Animal Products Import Export Company (“CATACO”)
• Can Tho Agricultural Products
• Can Tho Import Export Fishery Limited Company (“CAFISH”)
• Can Tho Seafood Exports
• Cantho Animal Fisheries Product Processing Export Enterprise (Cafatex)
• Cantho Imp & Exp Seafood Join, a.k.a. Caseamex
• Cautre Enterprises
• Cautre Export Goods Processing Joint Stock Company
• Chun Cheng Da Nang Co., Ltd.
• Co Hieu
• Coastal Fisheries Development Corporation (“COFIDEC”)
• Coastal Fisheries Development Corporation (Cofidec)
• Coastal Fisheries Development Corporation (Cofidec)
• Coastal Fisheries Development Corporation (Cofidec) and/or Coastal Fisheries Development Corporation (“COFIDEC”)
• Coastal Fishery Development
• Cong Ty Do Hop Viet Cuong
• CP Livestock
• Cuu Long Seaproducts Limited (Cuu Long Seapro)
• Cuulong Seaproducts Company (“Cuulong Seapro”)
• Cuulong Seaproducts Company (“Cuu Long Seapro”)
• Cuulong Seaproducts Company (“Cuu Long Seapro”) and/or Cuulong Seaproducts Limited (“Cuulong Seapro”)
• D & N Foods Processing Danang
• Danang Seaproducts Import Export Corporation (“Seaprodex Danang”)
• Danang Seaproducts Import Export Corporation (and its affiliate, Tho Quang Seafood Processing and Export Company) (collectively “Seaprodex Danang”)
• Danang Seaproducts Import Export Corporation (“Seaprodex Danang”) and/or Danang Seaproducts Import Export Corporation (and its affiliates) (“Seaprodex Danang”)
• Dao Van Manh
• Dong Phuc Huynh
• Dragon Waves Frozen Food Fty.
• Duyen Hai Bac Lieu Company (“T.K. Co.”)
• Duyen Hai Foodstuffs Processing Factory (“COSEAFEX”)
• Four Season Food
• Frozen Fty
• Frozen Seafoods Factory No. 32
• Frozen Seafoods Factory No. 32 and/or Frozen Seafoods FTy
• Frozen Seafoods Fty
• Gallant Ocean Vietnam
• Gallant Ocean (Vietnam) Co., Ltd.
• General Imports & Exports
• Grobest & I-Mei Industrial (Vietnam) Co., Ltd.
• Grobest & I-Mei Industrial Vietnam
• Hacota
• Hai Ha Private Enterprise
• Hai Thuan Export Seaproduct Processing Co., Ltd.
• Hai Viet
• Hai Viet Corporation (“HAVICO”)
• Hanoi Seaproducts Import Export Corporation (“Seaprodex Hanoi”)
• Hatrang Frozen Seaproduct Fty
• Hoa Nam Marine Agricultural
• Hoan An Fishery
• Hoan Vu Marine Product Co., Ltd.
• Hua Heong Food Ind Vietnam
• Investment Commerce Fisheries Corporation (“Incomfish”)
• Investment Commerce Fisheries Corporation (“INCOMFISH”)
• Investment Commerce Fisheries Corporation (“Incomfish”) and/or Investment Commerce Fisheries Corporation (“INCOMFISH”)
• Khanh Loi Trading
• Kien Gang Sea Products Import-Export Company (Kisimex)
• Kien Gang Seaproduct Import and Export Company (“KISIMEX”)
• Kien Long Seafoods
• Kim Anh Co., Ltd.
• Konoike Vinatrans Logistics
• Lamson Import-Export Foodstuffs Corporation
• Long An Food Processing Export Joint Stock Company (“LAFOOCO”)
• Lucky Shing
• Minh Hai Export Frozen Seafood Processing Joint Stock Company
• Minh Hai Export Frozen Seafood Processing Joint Stock Company (“Minh Hai Josoco”)
• Minh Hai Export Frozen Seafood Processing Joint Stock Company (“Minh Hai Jostoco”) and/or Minh Hai Export Frozen Seafood Processing Joint-Stock Company (“Minh Hai Jostosco”)
• Minh Hai Export Frozen Seafood Processing Joint-Stock Company (“Minh Hai Jotosco”)
• Minh Hai Joint-Stock Seafoods Processing Company (“Seaprodex Minh Hai”)
• Minh Hai Joint-Stock Seafoods Processing Company (“Seaprodex Minh Hai”) and/or Minh Hai Join-Stock Seafoods Processing Company (“Sea Minh Hai”)
• Minh Hai Sea Products Import Export Company (Seaprimex Co)
• Minh Phat Seafood
• Minh Phat Seafood and/or Minh Phat Seafood Co., Ltd.
• Minh Phat Seafood Co., Ltd.
• Minh Phu Seafood Corp.
• Minh Phu Seafood Corporation
• Minh Phu Seafood Corporation (and its affiliates Minh Qui Seafood Co., Ltd. and Minh Phat Seafood Co., Ltd.) (collectively “Minh Phu Group”)
• Minh Phu Seafood Export Import Corporation (and affiliates Minh Qui Seafood Co., Ltd. and Minh Phat Seafood Co., Ltd.)
• Minh Phu Seafood Export Import Corporation (and affiliates Minh Qui Seafood Co., Ltd. and Minh Phat Seafood Co., Ltd.) and/or Minh Phu Seafood Export Import Corporation (and affiliates Minh Qui Seafood Co., Ltd. and Minh Phat Seafood Co., Ltd.) (collectively “Minh Phu Group”)
• Minh Qui Seafood
• Minh Qui Seafood Co., Ltd.
• Nam Hai
• Ngoc Sinh Private Enterprise
• Ngoc Sinh Private Enterprise (“Ngoc Sinh Seafoods”)
• Ngoc Sinh Seafoods
• Nha Trang Company Limited
• Nha Trang Fisheries Co., Ltd.
• Nha Trang Fisheries Joint Stock Company (“Nha Trang Fisco”)
• Nha Trang Fisheries Joint Stock Company (“Nha Trang FISCO”)
• Nha Trang Fisheries Joint Stock Company (“Nha Trang Fisco”) and/or Nha Trang Fisheries Joint Stock Company (“Nha Trang FISCO”)
• Nha Trang Seaproduct Company (“Nha Trang Seafoods”)
• Nha Trang Seaproduct Company (“Nha Trang Seafoods”) and/or Nha Trang Seaproduct Company (“NHA TRANG SEAFOODS”)
• Pataya Food Industry (Vietnam) Ltd.
• Phat Loc Seafood
• Phu Cuong Seafood Processing and Import-Export Co., Ltd.
• Phu Cuong Seafood Processing & Import-Export Co., Ltd.
• Phu Cuong Seafood Processing and Import-Export Co., Ltd. and/or Phu Cuong Seafood Processing & Import-Export Co., Ltd.
• Phung Hung Private Business
• Phuong Nam Co., Ltd.
• Phuong Nam Seafood Co., Ltd.
• Quoc Viet Seaproducts Processing Trading Import and Export Co., Ltd.
• Saigon Orchide
• Sao Ta Foods Joint Stock Company (“Fimex VN”)
• Sao Ta Foods Joint Stock Company (“FIMEX VN”)
• Sao Ta Foods Joint Stock Company (“Fimex VN”) and/or Sao Ta Foods Joint Stock Company (“FIMEX”)
• Sao Ta Foods Joint Stock Company (Fimex VN) aka Sao Ta Seafood Factory
• Sao Ta Seafood Factory
• Sea Product
• Sea Products Imports & Exports
• Seafood Company Zone II (“Thusaco2”)
• Seafood Processing Joint Stock Company No. 9 (previously Seafood Processing Imports Exports)
• Seafoods and Foodstuff Factory
• Seaprimexco Vietnam
• Seaprodex and/or Seaprodex Hanoi
• Seaprodex Min Hai
• Seaprodex Quang Tri
• Soc Trang Aquatic Products and General Import Export Company (“Stapimex”)
• Soc Trang Aquatic Products and General Import Export Company (“Stapimex”) and/or Soc Trang Aquatic Products and General Import-Export Company (“STAPIMEX”)
• Soc Trang Seafood Joint Stock Company (“STAPIMEX”) aka Soc Trang Aquatic Products and General Import Export Company (“Stapimex”)
• Sonacos
• Song Huong ASC Import-Export Company Ltd.
• Song Huong ASC Import-Export Company Ltd. and/or Song Huong ASC Joint Stock Company Song Huong ASC Joint Stock Company
• Special Aquatic Products Joint Stock Company (“Seaspimex”)
• SSC
• T & T Co., Ltd.
• Tacvan Frozen Seafoods Processing Export
• Taydo Seafood Enterprises
• Thami Shipping & Airfreight
• Thang Long
• Thanh Doan Seaproducts Import
• Thanh Long
• Thien Ma Seafood
• Tho Quang Seafood Processing & Export Company Da Nang Fisheries Service Industrial
• Thuan Phuoc Seafoods and Trading Corporation
• Thuan Phuoc Seafoods and Trading Corporation and its separate factories Frozen Seafoods Factory No. 32 and Seafoods and Foodstuff Factory (collectively “Thuan Phuoc”)
• Thuan Phuoc Seafoods and Trading Corporation and/or Thuan Phuoc Seafoods and Trading Corporation (and its affiliates)
• Tourism Material and Equipment Company (Matourimex Hochiminh City Branch)
• Truc An Company
• Trung Duc Fisheries Private Enterprise
• UTXI Aquatic Products Processing Company
• UTXI Aquatic Products Processing Corporation (“UTXICO”)
• UTXI Aquatic Products Processing Corporation (“UTXICO”) aka UTXI Aquatic Products Processing Company
• V N Seafoods
• Vien Thang Private Enterprise
• Viet Foods Co., Ltd.
• Viet Foods Co., Ltd. (“Viet Foods”)
• Viet Foods Co., Ltd. (“Viet Foods”) and/or Viet Foods Co., Ltd.
• Viet Hai Seafoods Company Ltd. (“Vietnam Fish One Co. Ltd.”) and/or Viet Hai Seafood Co., Ltd. a/k/a Vietnam Fish One Co., Ltd. (Fish One)
• Viet Hai Seafoods Company Ltd. (Vietnam Fish One)
• Viet Hai Seafoods Company Ltd. (“Vietnam Fish One Co. Ltd.”)
• Viet Hai Seafood Co., Ltd. a/k/a Vietnam Fish-One Co., Ltd. (Fish One)
• Viet Nhan Company
• Vietfracht Can Tho
• Vietnam Fish-One Co., Ltd.
• Vietnam Northern Viking Technologie Co.
• Vietnam Northern Viking Technology Co., Ltd.
• Vietnam Tomec Co., Ltd.
• Vilfood Co.
• Vinh Hoan Co., Ltd.
• Vinh Loi Import Export Company (“Vimexco”)
• Vinh Loi Import Export Company (“VIMEX”)
• Vinh Loi Import Export Company (“Vimexco”) and/or Vinh Loi Import Export Company (“VIMEX”)
• Western Seafood Processing and Exporting Factory
People's Republic of China ⁷ | 02/01/2008—01/31/2009
Frozen Warmwater Shrimp A-570-893
• Allied Pacific (H.K.) Co. Ltd.
• Allied Pacific Aquatic Products (Zhanjiang) Co., Ltd.
• Allied Pacific Food (Dalian) Co., Ltd.
• Ammon International
• Anhui Fuhuang Chaohu Sanzhen C
• Anhui Huaxiang Foodstuffs Co., Ltd.
• Anqiu Jiayuan Foodstuffs Co., Ltd.
• Aquafreezer Company
• Aquatic Foodstuffs FTY
• Aquatic Products Processing Factory of China National Zhoushan Marine Fisheries Company
• Asian Seafood (Zhanjiang) Co., Ltd.
• Asian Seafoods Cold Storage
• Babcock & Wilcox
• Bao Xian Company Ltd.
• Baofa Aquatic Products Co., Ltd.
• Beihai Hongen Aquatic Products Co., Ltd.
• Beihai Qinguo Frozen Foods Co., Ltd.
• Beihai Tashare Seafood Co., Ltd.
• Beihai Wanjing Marin Products Co., Ltd.
• Beihai Zhengwu Aquatic Products Co., Ltd. and/or Beihai Zhengwu Industry Co., Ltd.
• Beilian Foods Industrial Co., Ltd.
• Cangnan Fengrun Freezing Plant
• Changle Jiacheng Food Co., Ltd.
• Chaoyang Qiaofeng Group Co., Ltd. (Shantou Qiaofeng (Group) Co., Ltd.) (Shantou/Chaoyang Qiaofeng). Co., Ltd.
• Chaozhou Huahai Aquatic Products Co., Ltd.
• Chaozhou Huahai Aquatic Products Co., Ltd. Fengxi Plant
• Chenghai Nichi Lan Food Co., Ltd.
• China National Fisheries Yantai Marine Fisheries Corp. Fishery Products Processing Factory
• Chung Wan Enterprises
• Chungshan Shinyo Marine Products Co., Ltd.
• Citic Heavy Machinery
• CNF Zhanjiang (Tonglian) Fisheries Co., Ltd.
• Dafu Foods Industry
• Dalian Evergreen
• Dalian Ftz Sea-Rich International Trading Co., Ltd.
• Dalian Juxin Aquatic Food Company, Ltd.
• Dalian Ohbun Food Co., Ltd.
• Dalian Shan Li Food
• Dalian Shanhai Seafood
• Dalian Tongyuan Foodstuffs Co., Ltd.
• Dandong Taihua Foodstuffs Co., Ltd.
• Danzhou Zhulian Freezing Co., Ltd.
• Dhin Foong Trdg
• Dong Guan Hai Huang Food Co., Ltd.
• Donggang Hongfeng Foods Freeze
• Donggang Sanlong Sea Produces Co., Ltd.
• Dongri Aquatic Products Freezing Plants
• Dongri Aquatic Products Freezing Plants Shengping
• Dongshan Dongsheng Food Co., Ltd.
• Dongshan Dongwang Aquatic Products Freezing Co., Ltd.
• Dongshan Dongxiecheng Seafoods Co., Ltd.
• Dongshan Dongxing Aquatic Processing Co., Ltd.
• Dongshan Huachang Foodstuff Co., Ltd.
• Dongshan Xinfu Aquatic Processing Co., Ltd.
• Dongshan Xinhefa Co., Ltd. and/or Dongshan Xinhefa Food
• E.S. Foods
• East Spark Logistics
• Fangchenggang City Fangcheng District Forestry Development Co., Ltd.
• Fenghua Hailiqu Frozen Corporation
• Foshan City Shunde District Yang Sei Seafoods Co., Ltd. (Seafood Workshop)
• Foshan Seafood Imp and Exp Co., Ltd., Seariver Seafood Foodstuff Factory
• Fuchang Aquatic Products
• Fujian Chaohui Intl.
• Fujian Meihua Aquatic Processing Factory
• Fujian Mingwei
• Fujian Provincial Meihua Aquat
• Fujian Western Gulf Seafood Co., Ltd.
• Fuqing Chaohui Aquatic Food Co., Ltd.
• Fuqing Chaohui Aquatic Food Trdg
• Fuqing City Huasheng Aquatic Food Co., Ltd.
• Fuqing Dongwei Aquatic Products Industry Co., Ltd.
• Fuqing Longwei Aquatic Foodstuff Co., Ltd.
• Fuqing Maowang Seafood Developing Co., Ltd.
• Fuqing Minhua Trade Co., Ltd.
• Fuqing Xuhu Aquatic Food Trdg
• Fuqing Yihua Aquatic Food Co., Ltd. and/or Fuqing Yihua Aquatic Products Co., Ltd.
• Fuzhou Hongli Food Co., Ltd.
• Fuzhou Mandy Foods Industries Co., Ltd.
• Fuzhou Rixing Aquatic Food Co., Ltd.
• Gallant Ocean (Nanhai), Ltd.
• Gallant Ocean (Liangjiang) Co., Ltd.
• General (Xiamen Tongan) Food Industry Co., Ltd.
• Go Harvest Aquatic Products
• Gold Star Fishery Zhoushan Co., Ltd.
• Gourmet Food (Zhongshan) Co., Ltd.
• Grand Harvest Seafoods (Zhanjiang) Co., Ltd.
• Guangdong Foshan Aquatic Products
• Guangxi Cereals Oils and Foodstuffs Imp./Exp. Beihai Aquatic Products Cold Processing Factory
• Guangxi Zhengwu Marine Ind.
• Guangzhou Lingshan Aquatic Products Co., Ltd.
• Hai Li Aquatic Co., Ltd. Zhao An, Fujian
• Hai Pa Wang (Shantou) Foods Co., Ltd. (Seafood Workshop)
• Haikui Aquatic Products
• Haili Aquatic Co., Ltd. Zhaoan Fujian
• Hainan Brich Aquatic Products Co., Ltd.
• Hainan Cereals Oils and Foodstuff Imp. & Exp. Co. Freezing Factory
• Hainan Dazhong Ocean Industry Co., Ltd.
• Hainan Dongfang Dongxin Aquatic Development Co., Ltd.
• Hainan Evernew Foods Co., Ltd.
• Hainan Fruit Vegetable Food Allocation Co., Ltd.
• Hainan Gaoyuan Foods Co., Ltd.
• Hainan Golden Spring Foods Co., Ltd.
• Hainan Golden Spring Foods Co., Ltd./Hainan Brich Aquatic Products Co., Ltd.
• Hainan Hailisheng Food Co., Ltd.
• Hainan Hualu Food Freezing Co., Ltd.
• Hainan Jiadexin Foodstuff Co., Ltd. and/or Hainan Jiadexin Foodstuff
• Hainan North Aquatic Co., Ltd.
• Hainan Quebec Ocean Fishing Co., Ltd.
• Hainan Ruiying Food
• Hainan Sanya Yuanheng Aquatic Food Co., Ltd.
• Hainan Seaberry Seafoods
• Hainan Sinalog Intl. Logistics
• Hainan Sky-Blue Ocean Foods Co., Ltd.
• Hainan Taisheng Fishery Co., Ltd.
• Hainan Wenchang Yongli Fishery Trading Co., Ltd.
• Hainan Xiangtai Fishery Co., Ltd.
• Hainan Zhongyi Frozen Food Co., Ltd.
• Haiyang Gold Sun Food Processing Co., Ltd.
• Haizhou Aquatic
• Hangzhou Tianhai Aquatic Food Co., Ltd.
• Harvest Aquatic Products
• Hefei Meiling Washing Machine
• Hilltop International
• Hogiya Seafoods
• Homey Dongfang Aquatic Foods Co., Ltd.
• Homon Ind Dalian
• Hong Hu Dei Young Aquatic Products Co., Ltd.
• Hongzhou Aquatic Products Industry Co., Ltd., Shantou
• Huahai Frozen Food
• Huangshi Lianhai Foodstuffs Gr
• Hubei Sanwuchun Foodstuff Manufacturing Co., Ltd.
• Hunan Best Foods
• I T Logistics
• Intl Economic Techical
• Jiachang Aquatic Product Co., Ltd. Longhai Doumei
• Jiangmen Kings Food Waihai Branch Ltd.
• Jiangmen Yue Fung Marine Products Co., Ltd.
• Jiangsu Holly
• Jiangsu Jiushoutang Organisms-Manufacturers
• Jiangsu Younger Foods
• Jiangzhou Tianhe Fishery Products Co., Ltd.
• Jiansheng Aquatic Product
• Jiaonan City Aquatic Cold Storage Factory
• Jinfu Trading Co., Ltd.
• Jinhang Aquatic Industry
• Jintown Enterprises
• Kaifeng Ocean Sky Industry
• Kaifeng Ocean Sky Industry Co., Ltd.
• King Bay Seafood Co., Ltd.
• King Royal Investments, Ltd.
• Laiyang Hengrun Foodstuff
• Laiyang Luhua Foodstuffs
• Laizhou Xincheng Food Co., Ltd.
• Lee Shing Food (Dongguan) Co., Ltd.
• Leizhou Yuyuan Aquatic Products Co., Ltd.
• Leizhou Zhulian Frozen Food Co., Ltd.
• Liangcheng (Longhai) Freezing Co. Ltd.
• Long Sheng Trend Wide (Yuhuan) Seafood Co., Ltd.
• Longhai Gelin Seafoods Co., Ltd.
• Longhai Jiarong Foods Co., Ltd.
• Longhai Xinlianda Freezing Foods Co., Ltd.
• Longkou Jiabao Aquatic Foodstuffs Co., Ltd.
• Longsheng Aquatic Products
• Luk Ka Paper Industry
• Maoming Changxing Foods
• Maoming Jiahui Foods Co., Ltd.
• Marnex
• Meizhou Aquatic Products Quick-Frozen Industry Co., Ltd. Shantou
• Michael Lloyd Verm
• Mingfeng
• Minnan Aquatic Development Co., Ltd. Jinjiang City
• Momoya Zhujiang Foods Industrial Co., Ltd.
• Muping Weiye Foods Co., Ltd.
• Nanhai Katolee Foods Co., Ltd.
• Ningbo Arts & Crafts Import and Export
• Ningbo Dayu Food Co., Ltd.
• Ningbo Fat Chef Food Co., Ltd.
• Ningbo Hengkang Food
• Ningbo Jiuzhou Food Co., Ltd.
• Ningbo Today Food Co., Ltd.
• Ningbo Wuling Taihsin Foods
• Ningbo Yuzhimei Seafoods Plant
• North Supreme Seafood (ZheJiang) Co., Ltd.
• North Supreme Seafood (Zhuhai) Co., Ltd.
• Ocean (Tianjin) Corporation Ltd.
• Ocean Freezing Industry & Trade General
• Olanya
• Penglai Huaguang Foodstuff Co., Ltd.
• Penglai Jinglu Fishery Co., Ltd.
• Penglai Jinglu Fishery Co., Ltd. Processing Factory
• Penglai Jinming Aquatic Products Co., Ltd.
• Penglai Meibo Foodstuffs Co., Ltd.
• Perfection Logistics Service
• PingYang Xinye Aquatic Products Co., Ltd.
• Pingye Foreign Transportation
• Power Dekor Group Co., Ltd.
• Qianjiang Heyi Aquatic Products and Foodstuff Co., Ltd.
• Qianjiang Laike Seafood Co., Ltd.
• Qingdao A&K Foods Col., Ltd.
• Qingdao Anke Industrial Co., Ltd.
• Qingdao Biwan Foods Co., Ltd.
• Qingdao Biwan Marine Products Co., Ltd.
• Qingdao Canning & Foodstuffs
• Qingdao Chaoyang Foods Col., Ltd.
• Qingdao Dayang Jian Foodstuffs
• Qingdao Dong Gang Foodstuffs Co., Ltd.
• Qingdao Dongwon F & B Co., Ltd.
• Qingdao Gabsan Trdg
• Qingdao Kangda Foodstuffs Co., Ltd. No. 2 Refrigeration Factory
• Qingdao Kangda Haiqing Foods Co. Ltd.
• Qingdao Katokichi Foodstuff Co., Ltd.
• Qingdao Rongli Aquatic Foods Co. Ltd.
• Qingdao Sanyang Aquatic Products Co., Ltd.
• Qingdao Sohshoku Refrigeration and Processing Co., Ltd.
• Qingdao Superior Foods Co., Ltd.
• Qingdao Tsukiji Suisan Co., Ltd.
• Qingdao Twins Co., Ltd.
• Qingdao Wanfang Foodstuff, Ltd.
• Qingdao Xinhaifeng Foods Co., Ltd.
• Qingdao Xuri Foodstuffs
• Qingdao Yilufa Foodstuffs Co., Ltd.
• Qingdao Yuanxing Foods Processing Plant
• Qingdao Yudong Foodstuffs Co., Ltd.
• Qingdao Zhengjin West Coast Aquatic Products Processing Plant
• Qinhuangdao Jiangxin Aquatic Food
• Quanzhou Yisheng Gifts
• Qunfa Seafood
• Raoping County Longfa Seafoods Co., Ltd.
• Raoping Jialong Freeze Food Co., Ltd.
• Raoping Jianli Foods Co., Ltd.
• Raoping Yongliang Foodstuffs Factory Co., Ltd. (Seafood Workshop)
• Raoping Yuanteng Frozen Food Co., Ltd.
• Red Garden Food
• Red Garden Foodstuff and/or Red Garden Food
• Regal Integrated Marine Resour
• Rich Shipping
• Rixiang Ocean Foodstuff Co., Ltd. Shishi
• Rizhao Changhua Aquatic Foodstuff
• Rizhao Huayang Farming Aquatic Processing Co., Ltd.
• Rizhao Rirong Aquatic Products and Foods Co., Ltd.
• Rizhao Smart Foods
• Rongcheng Lijiang Aquatic and Foodstuffs Co., Ltd.
• Rongcheng Tongda Aquatic Food
• Rongcheng Yinhai Aquatic
• Round the World Logistics
• Ruian Huasheng Aquatic Products
• Rushan Huagreat Aquatic Products Co. Ltd.
• Sahndong Huashijia Foods
• San Francisco Bay Brand Far East
• Sanya Branch of Zhanjiang Runhai Food Co., Ltd.
• Sanya Dongji Aquatic Products Co., Ltd.
• Sanya Dongji Aquatic Products Co., Ltd.
• Sanya Shengda Seafood Co., Ltd.
• Sanya Shengda Seafood Co., Ltd.
• Sanya Yuantiao Aquatic Products Trading Co., Ltd.
• Savvy Seafood Inc.
• Science & Technology Development
• Sea Mart
• Sea to Sea Seafood
• Second Aquatic Food
• SH Linghai Fisheries Trdg
• Shandong Chengshun Farm Produce Trd
• Shandong Foodstuffs Imp and Exp Corp. Qingdao Refrigeration Plant
• Shandong Huashijia Foods
• Shandong Longkou Aquatic Product Comprehensive Corporation
• Shandong Oriental Ocean Sci-Tech Co., Ltd.
• Shandong Rizhao Sanfod Foodstuffs Co., Ltd.
• Shandong Rushan Weimei Foodstuffs
• Shandong Sanfod Nissui Co., Ltd.
• Shandong Yongkang Food Co. Ltd.
• Shanghai Haidell Foods Co., Ltd.
• Shanghai Ho Ho Food Factory
• Shanghai Linghai Fisheries Economic and Trading Co.
• Shanghai Royal Dragon Seafoods
• Shanghai Taoen International Trading Co., Ltd.
• Shantou Chaoyang Zhansheng Freeze Factory
• Shantou City Qiaofeng Group Co., Ltd.
• Shantou Freezing Aquatic Product Food Stuffs Co.
• Shantou Freezing Factory
• Shantou Haimao Foodstuffs Factory Co., Ltd.
• Shantou Haixiang Aquatic Products Co., Ltd.
• Shantou Haiyou Aquatic Foodstuff Co., Ltd.
• Shantou Jiazhou Foods Industry Co., Ltd.
• Shantou Jinfa Seafood Co., Ltd.
• Shantou Jinhang Aquatic Industry Co., Ltd.
• Shantou Jinping District Mingfeng Quick-Frozen Factory
• Shantou Jinyuan District Mingfeng Quick-Frozen Factory
• Shantou Long Feng Foodstuffs Co., Ltd. (Shantou Longfeng Foodstuffs Co., Ltd.)
• Shantou Longfeng Foodstuff Co., Ltd.
• Shantou Longsheng Aquatic Product Foodstuff Co., Ltd.
• Shantou Longsheng Aquatic Product
• Shantou Nichi Len Foods Co., Ltd.
• Shantou Ocean Freezing Industry and Trade General Corporation
• Shantou Red Garden Foodstuff Co., Ltd. and/or Shantou Red Garden Food Processing Co., Ltd.
• Shantou Red Garden Foodstuff.
• Shantou Ruiyuan Industry Co., Ltd.
• Shantou SEZ Dafeng Aquatic Product Enterprise Co., Ltd.
• Shantou SEZ Xu Hao Fastness Freeze Aquatic Factory Co., Ltd.
• Shantou Sez Xuhoa Fastness Freeze Aquatic Factory Co.
• Shantou Shengping District Yongping
• Shengnanhe Aquatic Products Process Factory
• Shantou Shengping Jiacheng Aquatic Product Foodstuff Quick-Frozen Factory
• Shantou Shengping Oceanstar Business Co., Ltd.
• Shantou Wanya Food Factory Co., Ltd.
• Shantou Wanya Foods Fty. Co., Ltd. (Branch Factory)
• Shantou Yuexing Enterprise Company
• Shanwei Cathay Food Industries Ltd.
• Shanwei Good Harvest Aquatic Products Co., Ltd.
• Shaotou Ocean Freezing Industry and Trade General Corporation
• Sharewin Intl Cargo Agent
• Shenzhen Allied Aquatic Products
• Shishi Zhengyuan Aquatic Product Science & Technology Development Co., Ltd.
• Silvertie Holding
• Sinda Intl Trdg
• Sino Champion
• Sky Blue Ocean Foods
• St. City Qiaofeng Group
• ST Wanya Foods Fty
• Suqian Foreign Trdg
• T.H.
• Taiwan Titan Enterprises
• Taizhou Lingyang Aquatic Products Co., Ltd.
• Taizhou Zhonghuan Industrial Co., Ltd.
• Tangshan Dongguang Foods Co., Ltd.
• Thai Royal Frozen Food Zhanjiang Co., Ltd.
• The Aquaculture Processing Factory of Doumen Aquatic Products Import Co., Guangdong
• The Freezing Plant of Guangdong Shantou Aquatic Product Imp. and Exp. Co.
• The Second Aquatic Food
• The Second Aquatic Foodstuffs Factory Shandong Hisea Group
• Tianhe Hardware & Rigging
• Tianjin Dongjiang Food
• Tianjin Smart Gulf Foodstuffs Co., Ltd.
• Tien Jiang Enterprises
• TingFond Aquatic Food Development Co., Ltd. Guangzhou
• Top One Intl.
• Universal Freight Systems
• Weifang Taihua Food
• Weifang Yongqiang Food Ind.
• Weihai Weidongri Comprehensive Food Co., Ltd.
• Weishan Zhaozhong Lake Foodstuffs
• Wenling Hotai Marine Processing Corp.
• Wenling Jiaoshan Fishing Harbour Freezing Plant
• Wenling Shatou Seafood Cold Storage Plant
• Wenling Xingdi Aquatic Products Co., Ltd.
• Wenling Xingdi Aquatic Products
• Xiamen Sungiven Imports & Exports
• Xiangshan Haiyang Food Co., Ltd
• Xiangshan Huayi Seafood Co., Ltd.
• Xiangshan South Aquatic Food Co., Ltd.
• Xiantao Mianyang Sanzheng Foods Co., Ltd.
• Xiashan Cold Storage Plant of Zhanjiang Foodstuffs I/E Co. of Guangdong
• Xinxing Aquatic Products Processing Factory
• Xuwen Hailang Breeding Co., Ltd.
• Yancheng Haiteng Aquatic Products & Foods Co., Ltd
• Yancheng Sea & Garden Beauty Foods Co., Ltd.
• Yangjiang City Yelin Hoitat Quick Frozen Seafood Co., Ltd.
• Yangjiang City Yelin Hoi Tat Quick Frozen Seafood Co., Ltd.
• Yangjiang Jiangcheng Huanghai Marine Food Enterprises Co., Ltd.
• Yangjiang Jiangcheng Huanghai Marine Food Enterprises Co., Ltd.
• Yangxi Add Host Aquatic Product Processing Factory
• Yangxi Add Host Aquatic Product Processing Factory
• Yantai Aquatic Products Supplying and Marketing Co., Aquatic Products Fazhan Branch
• Yantai Aquatic Products Supplying and Marketing Co., Aquatic Products Haifa Food Branch
• Yantai Aquatic Products Supplying and Marketing Co., Aquatic Products Fazhan Branch
• Yantai Aquatic Products Supplying and Marketing Co., Aquatic Products Haifa Food Branch
• Yantai Dachen Food Products Co., Ltd.
• Yantai Defeng Aquatic Product Co., Ltd.
• Yantai Development Area Yulong Foods Co. Ltd.
• Yantai Foreign Trade No. 2 Refrigerator Factory
• Yantai Fuba Foodstuffs Co., Ltd.
• Yantai Guangyuan Foods Co.
• Yantai Haide Aquatic Products Co., Ltd.
• Yantai Haihe Foodstuffs Co., Ltd.
• Yantai Haixing Fishery Products Co., Ltd.
• Yantai Huake Foodstuffs Co. Ltd.
• Yantai Jinpeng Foodstuffs Co., Ltd.
• Yantai Lianfa Aquatic Products Co., Ltd.
• Yantai Liming Aquatic Products Co., Ltd.
• Yantai Longda Foodstuffs Co., Ltd.
• Yantai Longxiang Foodstuffs Co., Ltd.
• Yantai Luxing Foodstuffs Co., Ltd.
• Yantai M and K Foods Col., Ltd.
• Yantai Pengfu Fishery Products Co., Ltd.
• Yantai Sealucky Foodstuffs Co., Ltd.
• Yantai Tangmu Seafood Products Co., Ltd.
• Yantai Wei-Cheng Food Co., Ltd.
• Yantai Xingyang Aquatic & Foods Co., Ltd.
• Yantai Xinlai Trade
• Yantai Xinxing Foodstuffs Co., Ltd.
• Yantai Xuehai Foodstuffs
• Yantai Xuehai Foodstuffs Co., Ltd.
• Yantai Yuyuan Aquatic Products Co., Ltd.
• Yantai Zhaoyang Aquatic Products Co., Ltd.
• Yantai Zhengwang Seafood Co., Ltd.
• Yantai Zhicheng Aquatic Product Co., Ltd.
• Yelin Enterprise Co., Ltd. Hong Kong
• Yelin Frozen Seafood Co. 21
• Yuhuan Minzhu Freezing Plant
• Zhan Jiang Green Environmental Protection Aquatic Foods Co., Ltd.
• Zhangjiang Bobogo Ocean Co., Ltd.
• Zhangjiang Bo Bo Go Ocean Co., Ltd.
• Zhangjiang Jinguo Seafood Co., Ltd.
• Zhangzhou Changshan Haizhiwei Frozen Food Co.
• Zhangzhou Hsien-pin Frozen Foods Co., Ltd.
• Zhangzhou Oceanrich Foodstuffs Co., Ltd.
• Zhangzhou Quanfeng Foods Development Co., Ltd.
• Zhangzhou Yuanxin Foodstuff Co. Ltd.
• Zhanjiang Allied Pacific Aquaculture Co., Ltd.
• Zhanjiang Baohui Sea Products PTE Co., Ltd.
• Zhanjiang Baoli Aquatic Products Co., Ltd.
• Zhanjiang Bo Bo Go Ocean Co., Ltd.
• Zhanjiang Dongyang Aquatic Products Co., Ltd.
• Zhanjiang East Sea Kelon Aquatic Products Co., Ltd.
• Zhanjiang Evergreen Aquatic Product Science and Technology Co., Ltd.
• Zhanjiang Fuchang Aquatic Product Freezing Plant
• Zhanjiang Fuchang Aquatic Products
• Zhanjiang Go-harvest Aquatic Products Co., Ltd.
• Zhanjiang Guotong Aquatic Products Co., Ltd.
• Zhanjiang Haizhou Aquatic Product
• Zhanjiang Hi Press Machine Eqp
• Zhanjiang Longwei Aquatic
• Zhanjiang Newpro Foods Co., Ltd.
• Zhanjiang Puxin Aquatic Products Co., Ltd.
• Zhanjiang Regal Integrated Marine Resources Co., Ltd.
• Zhanjiang Runhai Foods Co., Ltd.
• Zhanjiang Siyu Aquatic Products Co., Ltd.
• Zhanjiang Universal Seafood Corp.
• Zhanjiang Yueshui Fishery Co., Ltd.
• Zhejiang Cereals, Oils & Foodstuff Import & Export Co., Ltd. and/or Zhejiang Cereals Oils & Foodstuffs Import & Export Corp. Yueqing Cooperative Cold Storage Plant
• Zhejiang Daishan Baofa Aquatic Products Co., Ltd.
• Zhejiang Dayang Aquatic Products Co., Ltd.
• Zhejiang Evergreen Aquatic
• Zhejiang Evergreen Aquatic Pro
• Zhejiang Evernew Seafood Co., Ltd. Cold Storage Plant
• Zhejiang Evernew Seafood Co., Ltd.
• Zhejiang Haizhiwei Aquatic Products Co., Ltd.
• Zhejiang Iceman Foods
• Zhejiang New Century Aquatic Food Co., Ltd.
• Zhejiang New Century Imp. & Exp. Group Co. Ltd. Seafood Factory
• Zhejiang Ocean Fisheries Group Ningbo Seafood Processing Co., Ltd. Corp. Food Plant
• Zhejiang Taizhou Haierbao Aquatic Products Co., Ltd.
• Zhejiang Tongxinrong Seafood Co., Ltd.
• Zhejiang Xingyang Import & Exports
• Zhejiang Xintianjiu Sea Products Co., Ltd.
• Zhejiang Zhenglong Foodstuffs Co., Ltd.
• Zhejiang Zhongdao
• Zhejiang Zhoufu Food Co., Ltd.
• Zhejiang Zhoushan Haisilk Aquatic Products Co., Ltd.
• Zhenjiang Evergreen Aquatic Products Science & Technology Co., Ltd.
• Zhenye Aquatic & Cool Storage
• Zhongshan Daisheng Frozen Food Company Ltd.
• Zhongshan Fishery and Agricultural Products Freezing Factory Co., Ltd.
• Zhongshan Metro Frozen Food Co., Ltd.
• Zhoushan
• Zhoushan Cereals, Oils and Foodstuffs Import and Export Co., Ltd.
• Zhoushan Changguo Foods Co., Ltd
• Zhoushan City Shengtai Aquatic Co., Ltd.
• Zhoushan Diciyuan Aquatic Products Co., Ltd.
• Zhoushan Diciyuan Aquatic Products
• Zhoushan Dinghai Hongxin Aquatic Products Coldstorage Plant
• Zhoushan Gangming Foods Co., Ltd.
• Zhoushan Guotai Aquatic Products Co., Ltd.
• Zhoushan Guotai Fisheries Co., Ltd.
• Zhoushan Haichang Food Co., Ltd.
• Zhoushan Haizhou Aquatic Products Co., Ltd. Foods Processing Factory
• Zhoushan Huading Seafood Co., Ltd
• Zhoushan Industrial Co., Ltd.
• Zhoushan Industrial Co., Ltd. Cold Storage Factory
• Zhoushan Jingzhou Aquatic Foods Co., Ltd.
• Zhoushan Jinyuan Aquatic Foods Co., Ltd.
• Zhoushan Lizhou Fishery Co., Ltd.
• Zhoushan Penglai Aquatic Co., Ltd.
• Zhoushan Putuo Dongyu Frozen Aquatic Products Co., Ltd
• Zhoushan Putuo Huafa Sea Products Co., Ltd.
• Zhoushan Putuo Zhuohai Marine Products Co., Ltd.
• Zhoushan Qiangren Imp & Exp
• Zhoushan Thousand-Islands Aquatic Products Co., Ltd.
• Zhoushan Toka Foods Co., Ltd.
• Zhoushan Xifeng Aquatic Co., Ltd.
• Zhoushan Yueyang Food Co., Ltd.
• Zhoushan Zaohai Aquatic Products Co., Ltd.
• Zhoushan Zhenyang Developing Co., Ltd.
• ZJ CNF Sea Products Engineering Ltd. Viet Nhan

Notification

This notice constitutes public notification to all firms requested for review and seeking separate-rate status in the administrative reviews of the antidumping duty orders on shrimp from Vietnam and the PRC that they must submit a separate rate status application or certification, as appropriate, within the time limits established in this notice of initiation of administrative reviews in order to receive consideration for separate-rate status. The Department will not give consideration to any Separate Rate Certification or Separate Rate Status Application made by parties who fail to timely submit the requisite Separate Rate Certification or Application. All information submitted by respondents in these administrative reviews is subject to verification. To complete these segments within the statutory time frame, the Department will be limited in its ability to extend deadlines on the above submissions. As noted above, the Separate Rate Certification and the Separate Rate Status Application will be available on the Department's Web site at http://ia.ita.doc.gov/nme/nme-sep-rate.html on the date of publication of this notice.

⁶ If one of the below named companies does not qualify for a separate rate, all other exporters of shrimp from Vietnam who have not qualified for a separate rate are deemed to be covered by this review as part of the single Vietnam-wide entity of which the named exporters are a part.

⁷ If one of the listed companies does not qualify for a separate rate, all other exporters of shrimp from the PRC that have not qualified for a separate rate are deemed to be covered by this review as part of the single PRC-wide entity of which the named exporter is a part.

Interested parties must submit applications for disclosure under APO in accordance with 19 CFR 351.305. Instructions for filing such applications may be found on the Department's Web site at http://www.trade.gov/ia.

This initiation and notice are in accordance with section 751(a) of the Act, and 19 CFR 351.221(c)(1)(i).

Dated: March 18, 2009.
John M. Andersen,
Acting Deputy Assistant Secretary for Antidumping and Countervailing Duty Operations.

[FR Doc. E9-6634 Filed 3-25-09; 8:45 am]

BILLING CODE 3510-DS-P